DEPARTMENT OF DEFENSE

Department of the Army; Corps of Engineers

Intent to Prepare a Draft Supplemental Environmental Impact Statement for the Boston Harbor Inner Harbor Maintenance Dredging Project

AGENCY: Department of the Army, U.S. Army Corps of Engineers, DOD.

ACTION: Notice of intent.

SUMMARY: The U.S. Army Corps of Engineers, New England District is preparing a Supplemental Environmental Impact Statement (SEIS) to maintenance dredge the federal navigation channels landward of Spectacle Island in Boston Harbor, MA. Maintenance dredging of the navigation channels landward of Spectacle Island is needed to remove shoals and restore the navigation channels to their authorized depths. Ships are currently experiencing tidal delays and potential damage from grounding. Material dredged from the federal channels will either be disposed at the Massachusetts Bay Disposal Site (if the material is suitable for ocean disposal) or, if the material is not suitable for ocean disposal, in confined aquatic disposal (CAD) cell(s). Major navigation channel improvements (depending) were made in 1999 through 2001 in the Reserved Channel, the Mystic River, Inner Confluence and the Chelsa River. A final EIS was prepared for this previous navigation improvement project in June of 1995 in which the use of CAD cells in the Mystic River, Inner Confluence, and Chelsea River were investigated. CAD cells not used during the construction of the previous navigation improvement project will be investigated for acceptability during the preparation of this SEIS.

ADDRESSES: If you wish to be placed on the mailing list for this project, or have questions about the proposed action and the DSEIS, please contact Ms. Catherine Rogers, Ecologist, U.S. Army Corps of Engineers, New England District, Evaluation Branch, 696 Virginia Road, Concord, MA 01742.

FOR FURTHER INFORMATION CONTACT: Ms. Catherine Rogers, (978) 318-8231.

SUPPLEMENTARY INFORMATION: The U.S. Army Corps of Engineers is authorized by the various Rivers and Harbor Acts and Water Resources Development Acts to conduct maintenance dredging of the federal navigation channels and anchorage areas in Boston Harbor.

In addition to maintenance dredging of the inner harbor, a feasibility study is currently underway to investigate deepening of the main shipping channels in the port of Boston seaward of the Ted Williams Tunnel to a depth greater than the currently authorized depths. This feasibility study, which will also include the preparation of a Supplemental EIS to the 1995 Record of Decision for the navigation improvement project, will examine the engineering feasibility, economic justification, social and cultural resource impacts, and environmental acceptability of the proposed channel deepening. The existing −40 foot MLLW main harbor entrance channel from Broad Sound, through President Roads, and up to the Marine Terminal just seaward of the Ted Williams Tunnel will be examined for depths up to −50 feet MLLW, as will the Reserved Channel. Deepening of a small area of the Mystic River Channel upstream of the Moran Terminal, from the current −35 foot depths to −40 feet will also be examined, as will deepening the Chelsea River Channel from the current −38 foot depth −40 feet.

Maintenance dredging of the federal Main Ship channel seaward of Spectacle Island, the President Roads anchorage area, and the Broad Sound North Channel is scheduled to be completed by May 2005. Material dredged from these channels was determined to be suitable for ocean water disposal and was disposal at the U.S. Environmental Protection Agency designated dredged material Massachusetts Bay Disposal Site.

Alternatives: The no action alternative will be investigated. Material unsuitable for ocean disposal would most likely be disposed within confined aquatic disposal (CAD) cells within the federal navigation channels above the Ted Williams Tunnel. The draft and final EIS for the previous Boston Harbor navigation improvement project investigated other alternative disposal sites for the disposal of dredged material. Material suitable for ocean disposal would likely be disposed at the Massachusetts Bay Disposal Site. A draft SEIS is expected to be completed by October 2005.

Dated: April 25, 2005.
Thomas L. Koning,
Colonel, Corps of Engineers, New England District.

[FR Doc. 05-9316 Filed 5-9-05; 8:45 am]

BILLING CODE 3710-24-M